DEPARTMENT OF TRANSPORTATION

Coast Guard

33 CFR Part 165

[CGD01-01-077]

RIN 2115-AA97

Safety Zone; Long Island Sound, Thames River, Great South Bay, Shinnecock Bay, Connecticut River and the Atlantic Ocean Annual Fireworks Displays

AGENCY: Coast Guard, DOT.

ACTION: Notice of proposed rulemaking.

SUMMARY: The Coast Guard proposes to establish 17 permanent safety zones for fireworks displays located on or in Long Island Sound, the Atlantic Ocean, the Thames River, Great South Bay, Shinnecock Bay and the Connecticut River. This action is necessary to provide for the safety of life on navigable waters during the events. This action establishes permanent exclusion areas that are only active shortly prior to the start of the fireworks display until shortly after the fireworks display is completed, and it is intended to restrict vessel traffic in a small portion of the affected waterways.

DATES: Comments and related material must reach the Coast Guard on or before October 9, 2001.

ADDRESSES: You may mail comments and related material to U.S. Coast Guard Group/MSO Long Island Sound, 120 Woodward Ave, New Haven, Connecticut 06512. The Command Center maintains the public docket (CGD01-01-077) for this rulemaking. Comments and material received from the public, as well as documents indicated in this preamble as being available in the docket, will become part of this docket and will be available for inspection or copying at the Command Center, Coast Guard Group/MSO Long Island Sound, between 7:30 a.m. and 4:00 p.m., Monday through Friday, except Federal holidays.

FOR FURTHER INFORMATION CONTACT: Chief Chris Stubblefield, Marine Safety Office Supervisor, Coast Guard Group/MSO Long Island Sound, Connecticut (203) 468-4444.

SUPPLEMENTARY INFORMATION:

Request for Comments

We encourage you to participate in this rulemaking by submitting comments and related material. If you do so, please include your name and address, identify the docket number for this rulemaking (CGD01-01-077), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting, but you may submit a request for a meeting by writing to the U.S. Coast Guard Group/Marine Safety Office at the address listed under ADDRESSES explaining why one would be beneficial. If we determine that one would aid this rulemaking, we will hold one at a time and place announced by a later notice in the Federal Register.

Background and Purpose

The Coast Guard proposes to establish 17 permanent safety zones that will be activated for fireworks displays that normally occur on an annual basis and are normally held in one of the following 17 locations: on the Connecticut River off of Old Saybrook, CT; on the Connecticut River off Hartford, CT; in Greenwich Harbor on Long Island Sound, CT; in Long Island Sound off Madison, CT; in Long Island Sound off Rowayton, CT; in New Haven Harbor on Long Island Sound, CT; in Long Island Sound off Groton Long Point in Groton, CT; in Cold Springs Harbor on Long Island Sound, NY; in Shinnecock Bay off Southampton, NY; in Great South Bay off Davis Park, NY; in Great South Bay off Patchogue, NY; in Great South Bay off Cherry Cove, NY; and in the Atlantic Ocean off Sagaponack, NY. By establishing permanent safety zones, the Coast Guard will eliminate the need to establish temporary rules annually. The Coast Guard has promulgated safety zones for fireworks displays at all of these 17 areas in the past and has received no public comments or concerns on the impact to waterway traffic from these annually recurring zones.

While this proposed regulation would prevent vessels from transiting areas made hazardous from the launching of fireworks, the proposed safety zone would not prevent vessels from transiting effected bodies of waters by simply transiting around the proposed safety zones. Additionally, vessels would not be precluded from mooring at or getting underway from commercial or recreational piers in the vicinity of any of the 17 proposed safety zones.

Discussion of Proposed Rule

The Coast Guard proposes to add a new section to 33 CFR part 165, which would include these 17 new safety zones for fireworks displays that occur on a regular basis in the same locations. The sizes of these safety zones were determined using Captain of the Port Long Island Sound local policy for each fireworks displays (100 feet distance per inch of diameter of the mortars), combined with the Coast Guard's knowledge of tide and current conditions in these areas. Proposed barge locations and mortar sizes were determined to ensure the proposed safety zone locations would not interfere with any known marinas or piers. The 17 proposed safety zones, divided into their respective bodies of water, are described below. All coordinates reference 1983 North American Datum (NAD 83).

Connecticut River

There are three proposed safety zones for the Connecticut River. The proposed safety zone for the annual Arnold L. Chase fireworks display encompasses all waters of the Connecticut River within a 600 foot radius of the fireworks barge in approximate position 41°15′56″N, 072°21′49″W, located off Fenwick Pier, Old Saybrook, CT. The proposed safety zone for the annual Saybrook Summer Pops fireworks display encompasses all waters of Connecticut River within a 600 foot radius of the fireworks barge located in approximate position 41°17′35″N, 072°21′20″W, located north of the dock on Saybrook Point, Old Saybrook, CT. The proposed safety zone for the annual Riverfest Fireworks display encompasses all waters of the Connecticut River within a 600 foot radius of the fireworks barge located in approximate position 41°45′34″N, 072°39′37″W, located in Hartford, CT.

Thames River

There are two proposed safety zones for the Thames River. The proposed zone for the annual Mashantucket Pequot fireworks display encompasses all waters of the Thames River within a 1200 foot radius of the fireworks barges located in approximate positions; barge one, 41°21′01″N, 072°05′25″W, barge two, 41°20′58″N, 072°05′23″W, barge three, 41°20′53″N, 072°05′21″W, located off New London, CT. The proposed safety zone for the annual Harbor Day Fireworks display encompasses all waters of the Thames River within a 600 foot radius of the fireworks barge in approximate position 41°31′14″N, 072°04′44″W, located off the marina at the American Warf, Norwich, CT.

Long Island Sound

There are seven proposed safety zones for Long Island Sound. The proposed safety zone for the annual Indian Harbor Yacht Club fireworks display encompasses all waters of Captains Harbor within an 800 foot radius of the fireworks barge located in approximate position 41°00′35″N, 073°37′05″W, located off of Greenwich, CT. The proposed safety zone for the annual Madison Cultural Arts fireworks display encompasses all waters of Long Island Sound off the city of Madison within an 800 foot radius of the fireworks barge in approximate position 41°16′10″N, 072°36′30″W. The proposed safety zone for the annual City of Rowayton fireworks display encompasses all waters of Sheffield Channel on Long Island Sound off Ballast Reef, CT, within a 1000 foot radius of the fireworks barge in approximate position 41°03′11″N, 073°26′41″W. The proposed safety zone for the annual City of West Haven fireworks display encompasses all waters of New Haven Harbor in Long Island Sound off Bradley Point within a 1200 foot radius of the fireworks barge located in approximate position 41°15′07″N, 072°57′26″W. The proposed safety zone for the annual New Haven Festival fireworks display encompasses all waters of New Haven Harbor in Long Island Sound within a 1200 foot radius of the fireworks barge located in approximate position 40°17′31″N, 072°54′48″W.

The proposed safety zone for the annual Groton Long Point Yacht Club fireworks display encompasses all waters of Long Island Sound off of Groton Long Point in Groton, CT, within a 600 foot radius of the fireworks barge located in approximate position 41°18′05″N, 072°02′08″W. The proposed safety zone for the annual Yampol Family fireworks display encompasses all waters of Long Island Sound off Cove Neck, NY, within a 1200 foot radius of the fireworks barge located in approximate position 40°53′00″N, 073°29′13″W.

Shinnecock Bay (Off Southampton, NY)

The proposed safety zone for the annual Southampton Fresh Air Home fireworks display encompasses all waters of Shinnecock Bay off Southampton, NY within a 600 foot radius of the fireworks barge located in approximate position 40°51′48″N, 072°28′30″W.

Great South Bay (Off Long Island, NY)

The proposed safety zone for the annual T.E.L. Enterprises fireworks display encompasses all waters of Great South Bay off Davis Park, NY within a 600 foot radius of the fireworks barge located in approximate position 40°41′17″N, 073°00′20″W. The proposed safety zone for the annual Patchogue Chamber of Commerce fireworks display encompasses all waters of Great South Bay off Patchogue, NY within an 800 foot radius of the fireworks barge located in approximate position 40°44′38″N, 073°00′33″W.

The proposed safety zone for the annual Fire Island Tourist Bureau fireworks display encompasses all waters of Great South Bay off Cherry Grove, NY within a 600 foot radius of the fireworks barge located in approximate position 40°35′45″N, 073°05′23″W. Atlantic Ocean (Off Sagaponack, NY)

The proposed safety zone for the annual Treibeck's fireworks display encompasses all waters of the Atlantic Ocean off Sagaponack, NY within a 1200 foot radius of the fireworks barge located in approximate position 40°54′04″ N, 072°16′50″ W.

Schedule

The Coast Guard does not know the specific annually recurring dates of these fireworks display safety zones. Coast Guard Group/MSO Long Island Sound or Coast Guard Group Moriches will give notice of the activation of each safety zone by all appropriate means to provide the widest publicity among the affected segments of the public. This will include publication in the Local Notice to Mariners. Marine information and facsimile broadcasts may also be made for these events, beginning 12 to 24 hours before the event is scheduled to begin, to notify the public. The Coast Guard expects that this wide notice of the activation of each permanent safety zone detailed in this rulemaking will normally be made between 30 and 45 days before the zone is actually activated. Fireworks barges used in the locations stated in this rulemaking will also have a sign on their port and starboard side labeled “FIREWORKS—STAY AWAY”. This will provide on-scene notice that the safety zone the fireworks barge is located in will be activated on that day. This sign will consist of 10” high by 1.5” wide red lettering on a white background. Displays launched from shore sites have a sign labeled “FIREWORKS—STAY AWAY” with the same size requirements. There will also be a Coast Guard patrol vessel, if deemed necessary by the Captain of the Port, on scene 30 minutes before the display is scheduled to start until 15 minutes after its completion to enforce each safety zone.

The effective period for each proposed safety zone is from 8 p.m. to 11 p.m. (e.s.t.). However, vessels may enter, remain in, or transit through these safety zones during this time frame if authorized by the Captain of the Port Long Island Sound, or designated Coast Guard patrol personnel on scene, as provided for in 33 CFR 165.23. Generally, blanket permission to enter, remain in, or transit through these safety zones will be given except for the 45-minute period that a Coast Guard patrol vessel is present. These proposed safety zones would not create a significant economic impact on marine traffic due to the following: the minimal time that vessels will be restricted from the zones, all of the zones are in areas where the Coast Guard expects insignificant adverse impact on all mariners, all of the displays take place at night, and the Coast Guard has promulgated safety zones for fireworks displays at all 17 areas in the past and we have not received notice of any negative impact caused by any of the safety zones. Additionally, marine traffic can plan transits through these areas around the time the safety zones are in effect.

This rule is being proposed to provide for the safety of life on navigable waters during the events and to facilitate the opportunity for the public to comment on the proposed zones, and to decrease the amount of required annual paperwork.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

We expect the economic impact of this proposed rule to be so minimal that a full Regulatory Evaluation under paragraph 10e of the regulatory policies and procedures of DOT is unnecessary.

This finding is based on the minimal time that vessels will be restricted from the zones. Vessels may also still transit through these zones except for the 45 minute period that a Coast Guard Patrol vessel is present and all of the zones are in areas where the Coast Guard expects insignificant adverse impact on all mariners from the zones' activation. All of the displays take place late at night. The Coast Guard has promulgated safety zones for fireworks displays at all 17 areas in the past and we have not received notice of any negative impact caused by any of the safety zones. Additionally, marine traffic can plan their transits through these areas around the time the safety zones are in effect. Advance notifications will also be made to the local maritime community by the Local Notice to Mariners. Marine information and facsimile broadcasts may also be made.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule will not have a significant economic impact on a substantial number of small entities.

This proposed rule will affect the following entities, some of which might be small entities: the owners or operators of vessels intending to transit or anchor in a portion of the Connecticut River, Thames River, Shinnecock Bay, Great South Bay, Long Island Sound and the Atlantic Ocean during the times these zones are activated.

These safety zones will not have a significant economic impact on a substantial number of small entities for the following reasons: Vessel traffic can transit around all 17 safety zones. Vessels will not be precluded from getting underway, or mooring at, any piers or marinas currently located in the vicinity of the proposed safety zones. Before the effective period, we will issue maritime advisories widely available to users of Long Island Sound, the Connecticut and Thames River, Great South Bay, Shinnecock Bay, the Atlantic Ocean and of Connecticut/New York by local notice to mariners. Marine information and facsimile broadcasts may also be made.

If you think that your business, organization, or governmental jurisdiction qualifies as a small entity and that this rule will have a significant economic impact on it, please submit a comment (see ADDRESSES) explaining why you think it qualifies and how and to what degree this rule will economically affect it.

Assistance for Small Entities

Under section 213(a) of the Small Business Regulatory Enforcement Fairness Act of 1996 (Pub. L. 104-121), we want to assist small entities in understanding this proposed rule so that they can better evaluate its effects on them and participate in the rulemaking. If the rule will affect your small business, organization, or governmental jurisdiction and you have questions concerning its provisions or options for compliance, please contact Chief Petty Officer Chris Stubblefield, in the Command Center at Coast Guard Group/Marine Safety Office Long Island Sound, CT, at (203) 468-4444.

Collection of Information

This proposed rule will call for no new collection of information under the Paperwork Reduction Act of 1995 (44 U.S.C. 3501-3520).

Federalism

We have analyzed this proposed rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule will not impose an unfunded mandate.

Taking of Private Property

This proposed rule will not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We considered the environmental impact of this proposed rule and concluded that, under figure 2-1, paragraph 34(g), of Commandant Instruction M16475.1C, this proposed rule is categorically excluded from further environmental documentation. This proposed rule fits paragraph 34(g) as it establishes 17 safety zones. A “Categorical Exclusion Determination” is available in the docket where indicated under ADDRESSES.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. Add new § 165.151 to read as follows:

§ 165.151 Safety Zones; Long Island Sound, Thames River, Great South Bay, Shinnecock Bay, Connecticut River and the Atlantic Ocean Annual Fireworks Displays.

(a) Safety zones. The following areas are designated safety zones. All coordinates reference 1983 North American Datum (NAD83).

(1) Indian Harbor Yacht Club Fireworks Safety Zone.

All waters of Long Island Sound off Greenwich CT, within a 800 foot radius of the fireworks barge located in approximate position 41°00′35″ N, 073°37′05″ W.

(2) City of Rowayton Fireworks Safety Zone. All waters of Long Island Sound in Sheffield Channel off of Ballast Reef within a 1000 foot radius of the fireworks barge located in approximate position 41°03′11″ N, 073°26′41″ W.

(3) The Yampol Family Fireworks Safety Zone. All waters of Long Island Sound off Cold Springs Harbor, Cove Neck New York within a 1200 foot radius of the fireworks barge located in approximate position 40°53′00″ N, 073°29′13″ W.

(4) Groton Long Point Yacht Club Fireworks Safety Zone. All waters of Long Island Sound off of Groton Long Point, Groton, CT, within a 600 foot radius of the fireworks barge in approximate position 41°18′05″ N, 072°02′08″ W.

(5) City of West Haven Fireworks Safety Zone. All waters of New Haven Harbor on Long Island Sound off Bradley Point within a 1200 foot radius of the fireworks barge in approximate position 41°15′07″ N, 072°57′26″ W.

(6) New Haven Festival Fireworks Safety Zone. All waters of New Haven Harbor on Long Island Sound within a 1200 foot radius of the fireworks barge in approximate position 40°17′31″ N, 072°54′48″ W.

(7) Madison Cultural Arts Fireworks Safety Zone. All the waters of Long Island Sound located off the City of Madison within an 800 foot radius of the fireworks barge in approximate position 41°16′10″ N, 072°36′30″ W.

(8) Arnold L. Chase Fireworks Safety Zone. All waters of Connecticut River within a 600 foot radius of the fireworks barge located in approximate position 41°15′56″ N, 072°21′49″ W, about 100 yards off Fenwick Pier.

(9) Saybrook Summer Pops Fireworks Safety Zone. All waters of Connecticut River within a 600 foot radius of the fireworks barge located in approximate position 41°17′35″ N, 072°21′20″ W.

(10) Mashantucket Pequot Fireworks Safety Zone. All waters of Thames River within a 1200 foot radius of the fireworks barges located in approximated positions: barge one, 41°21′01″ N, 072°05′25″ W, barge two, 41°20′58″ N, 072°05′23″ W, barge three, 41°20′53″ N, 072°05′21″ W, located off New London, CT.

(11) Harbor Day Fireworks Safety Zone. All waters of Thames River within a 600 foot radius of the fireworks barge located in approximate position 41°31′14″ N 072°04′44″ W , located off American Warf Marina, Norwich, CT.

(12) Riverfest Fireworks Safety Zone. All the waters of the Connecticut River within a 600 foot radius of the fireworks barge located in approximate position 41°45′34″ N, 072°39′37″ W.

(13) Southampton Fresh Air Home Fireworks Safety Zone. All the waters of Shinnecock Bay within a 600 foot radius of the fireworks barge located in approximate position 40°51′48″ N, 072°28′30″ W, off of Southampton, NY.

(14) T.E.L. Enterprises Fireworks Safety Zone. All the waters of Great South Bay within a 600 foot radius of the fireworks barge located in approximate position 40°41′17″ N, 073°00′20″ W, off of Davis Park, NY.

(15) Patchogue Chamber of Commerce Fireworks Safety Zone. All the waters of Great South Bay within an 800 foot radius of the fireworks barge located in approximate position 40°44′38″ N, 073°00′33″ W, off of Patchogue, NY.

(16) Fire Island Tourist Bureau Fireworks Safety Zone. All the waters of Great South Bay within a 600 foot radius of the fireworks barge located in approximate position 40°35′45″ N, 073°05′23″ W, off of Cherry Cove, NY.

(17) Treibeck's Party Fireworks Safety Zone. All the waters of the Atlantic Ocean within a 1200 foot radius of the fireworks barge located in approximate position 40°54′04″ N, 072°16′50″ W, off of Sagaponack, NY.

(b) Notification. Coast Guard Group/Marine Safety Office Long Island Sound and Coast Guard Group Moriches will cause notice of the activation of these safety zones to be made by all appropriate means to effect the widest publicity among the affected segments of the public, including publication in the local notice to mariners, marine information broadcasts, and facsimile. Fireworks barges used in these locations will also have a sign on their port and starboard side labeled “FIREWORKS—STAY AWAY” with the same dimensions listed previously.

(c) Enforcement period. Specific zones in this section will be enforced from 8 p.m. to 11 p.m. (e.s.t.) each day a barge with a “FIREWORKS—STAY AWAY” sign is posted in that zone.

Vessels may not enter, remain in, or transit through these safety zones during this time frame unless authorized by the Captain of the Port Long Island Sound or designated Coast Guard patrol personnel on scene.

Dated: June 4, 2001.
David P. Pekoske,
Captain, U. S. Coast Guard, Captain of the Port, Long Island Sound.

[FR Doc. 01-19726 Filed 8-6-01; 8:45 am]

BILLING CODE 4910-15-P